DEPARTMENT OF HOUSING AND URBAN DEVELOPMENT

[Docket No. FR-5750-N-28]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Ms. Connie Lotfi, Air Force Real Property Agency, 143 Billy Mitchell Blvd., San Antonio, TX 78226, (210) 925-3047; COE: Mr. Scott Whiteford, Army Corps of Engineers, Real Estate, CEMP-CR, 441 G Street NW., Washington, DC 20314; (202) 761-5542; ENERGY: Mr. David Steinau, Department of Energy, Office of Property Management, 1000 Independence Ave. SW., Washington, DC 20585 (202) 287-1503; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NAVY: Mr. Steve Matteo, Department of the Navy, Asset Management Division, Naval Facilities Engineering Command, Washington Navy Yard, 1330 Patterson Ave. SW., Suite 1000, Washington, DC 20374; (202) 685-9426 (These are not toll-free number).

Dated: July 3, 2014.
Brian P. Fitzmauricem
Director, Division of Community Assistance, Office of Special Needs Assistance Programs.

TITLE V, FEDERAL SURPLUS PROPERTY PROGRAM FEDERAL REGISTER REPORT FOR 07/11/2014

Suitable/Available Properties

Building

Colorado

Turley House

Reclamation

Grand Junction CO 81503

Landholding Agency: Interior

Property Number: 61201420004

Status: Unutilized

Directions: House; Garage/Carport; Shop/Shed

Comments: off-site removal only; no future service need; 3,603 total sq. ft.; structural delicacies; contact interior for more information.

Georgia

Records Holding 661246B024, RPUD 03 54976

934 College Station Road

Athens GA 30605

Landholding Agency: Agriculture

Property Number: 15201420021

Status: Excess

Comments: off-site removal only; 196 sq. ft.; storage; good conditions; secured area; contact Agriculture for more information.

Hazardous Chemical Waste

Holding 661246B025, RPUID 03.54977

934 College Station Road

Athens GA 30605

Landholding Agency: Agriculture

Property Number: 15201420022

Status: Excess

Comments: off-site removal only; 196 sq. ft.; good conditions; contamination; secured area; contact Agriculture for more information.

Records Holding 661246B022,

RPUID 03.54974

934 College Station Road

Athens GA 30605

Landholding Agency: Agriculture

Property Number: 15201420023

Status: Excess

Comments: off-site removal only; 196 sq. ft.; storage; fair conditions; secured area; contact Agriculture for more information.

Cage Storage 661246B021, RPUID 03.54973

934 College Station Road

Athens GA 30605

Landholding Agency: Agriculture

Property Number: 15201420024

Status: Excess

Comments: off-site; removal only; 586 sq. ft.; 51+ years old; poor conditions; rotten roof; leaking; has holes; water damage; secured area; contact Agriculture for more information.

Records Holding 661246B0023, RPUID 03.54975

934 College Station Road

Athens GA 30605

Landholding Agency: Agriculture

Property Number: 15201420025

Status: Excess

Comments: off-site removal only; 196 sq. ft.; storage; fair conditions; secured area; contact Agriculture for more information.

Idaho

Ditchrider House

3970 1st Lane East

Parma ID 83660

Landholding Agency: GSA

Property Number: 54201420011

Status: Excess

GSA Number: 9-I-ID-0585

Directions: Landholding Agency: Dept. of Homeland Security; Disposal Agency: GSA

Comments: 1,194 sq. ft.; residence; 48+ months vacant; extensive repairs needed; contact GSA for more info.

BOR Upper Shake River

Field Office

1359 Hansen Ave.

Burley ID 83318

Landholding Agency: GSA

Property Number: 54201420012

Status: Excess

GSA Number: 9-I-ID-0586

Directions: Landholding Agency: Interior; Disposal Agency: GSA

Comments: 9,828 sq. ft.; office; 48+ months vacant; good to moderate conditions; contact GSA for more info.

Illinois

Peoria Radio Repeater Site

Between Spring Creek and Caterpillar Lane

Peoria IL

Landholding Agency: GSA

Property Number: 54201420008

Status: Excess

GSA Number: I-D-IL-806

Directions: Landholding Agency; COE; Disposal agency GSA

Comments: 8 x 12 equipment storage shed; fair conditions contact GSA for more information.

Kansas

Shower Latrine

Riverside Park

Sylvan Grove KS 67481

Landholding Agency: COE

Property Number: 31201420019

Status: Underutilized

Comments: off-site removal only; no future agency need; 612 sq. ft.; fair conditions; contact COE for more info.

Oregon

Lost Creek Lake

Catfish Cove Restrooms

LCL OR

Landholding Agency: COE

Property Number: 31201430001

Status: Underutilized

Comments: off-site removal only; no future agency need; each 6′x6′; repairs needed; contact COE for more information.

North Unit ID/Duplex 3 (504)

Apt. 1 & 2 R0112000600B

616 NW Lindberg

Madras OR 97741

Landholding Agency: Interior

Property Number: 61201420005

Status: Unutilized

Comments: offsite removal only; no future agency need; 2,000 sq. ft.; 6+ months vacant; poor conditions; contact Interior for more info.

Texas

Waco Lake; Reynolds Creek Park

Restroom #5

2885 Speegleville Rd.

North Waco TX 76712

Landholding Agency: COE

Property Number: 31201420015

Status: Excess

Comments: off-site removal only; 505 sq. ft.; repairs needed; secured area; contact COE for more info.

Waco Lake; Reynolds Creek

Park Restroom #3

2885 Speegleville Road

North Waco TX 76712

Landholding Agency: COE

Property Number: 31201420016

Status: Excess

Comments: off-site removal only; 505 sq. ft.; repairs needed; secured area; contact COE for info.

Waco Lake; Reynolds Creek

Park Restroom #4

2885 Speegleville Road

North Waco TX 76712

Landholding Agency: COE

Property Number: 31201420017

Status: Excess

Comments: off-site removal only; 505 sq. ft.; repairs needed; secured area; contact COE for more info.

Waco Lake; Reynolds Creek

Park Restroom #2

2885 Speegleville Road

North Waco TX 76712

Landholding Agency: COE

Property Number: 31201420018

Status: Excess

Comments: off-site removal only; 505 sq. ft.; repairs needed; secured area; contact COE for more info.

Washington

Old Colville Border Patrol

209 E. Juniper Ave.

Colville WA 99114

Landholding Agency: GSA

Property Number: 54201420009

Status: Excess

GSA Number: 9-Z-WA-1272

Directions: Landholding Agency: Dept. of Homeland Security; Disposal Agency: GSA

Comments: 5,500 sq. ft.; office; 18+ months vacant; good to moderate conditions; contact GSA for more info.

Old Oroville Border Patrol Station

1105 Main St.

Oroville WA 98844

Landholding Agency: GSA

Property Number: 54201420010

Status: Excess

GSA Number: 9-Z-WA-1272-AB

Directions: Landholding Agency: Dept. of Homeland Security; Disposal Agency: GSA

Comments: 5,500 sq. ft.; office; 18+ months vacant; good to moderate conditions; contact GSA for more info.

Unsuitable Properties

Land

Virginia

UIC M00264

Marine Corps Base

Quantico VA

Landholding Agency: Navy

Property Number: 77201420029

Status: Unutilized

Comments: Public access denied & no alternative method to gain access without compromising national security

Reasons: Secured Area.

Building

Michigan

3 Building

Bunker Road

Selfridge MI 48045

Landholding Agency: Air Force

Property Number: 18201420054

Status: Unutilized

Directions: 1451; 1452; 1453

Comments: Public access denied & no alternative method to gain access without compromising national security

Reasons: Secured Area.

Virginia

Building 3303

Marine Corps Base

Quantico VA 22134

Landholding Agency: Navy

Property Number: 77201420030

Status: Unutilized

Comments: Public access denied & no alternative method to gain access without compromising national security

Reasons: Secured Area.

UIC M00264; BLDG. 2085

Marine Corps Base

Quantico VA 22134

Landholding Agency: Navy

Property Number: 77201420031

Status: Excess

Comments: Public access denied & no alternative method to gain access without compromising national security

Reasons: Secured Area.

Land

Wyoming

Spook Wyoming Site

Acid Pond Parcel

North of Glenrock WY 82633

Landholding Agency: Energy

Property Number: 41201420003

Status: Excess

Comments: Can be reached only by crossing private property and there is no established right or means of entry

Reasons: Other—Land locked; Not accessible by road.

[FR Doc. 2014-16033 Filed 7-10-14; 8:45 am]

BILLING CODE 4210-67-P